DEPARTMENT OF LABOR

Office of the Secretary

Senior Executive Service; Appointment of Members to the Performance Review Board

Title 5 U.S.C. 4314(c)(4) provides that Notice of the Appointment of the individual to serve as a member of the Performance Review Board of the Senior Executive Service shall be published in the Federal Register.

The following individuals are hereby appointed to serve on the Department's Performance Review Board:

Permanent Membership

Chair—Deputy Secretary

Vice-Chair—Assistant Secretary for Administration and Management

Alternate Vice-Chair—Chief Human Capital Officer

Rotating Membership—

Appointments Expire on 09/30/21

BLS Nancy Ruiz De Gamboa, Associate Commissioner for Administration

EBSA Amy Turner, Deputy Assistant Secretary

ETA Nicholas Lalpuis, Regional Administrator, Dallas

ILAB Martha Newton, Deputy Undersecretary for International Affairs

MSHA Patricia Silvey, Deputy Assistant Secretary

OASAM Geoffrey Kenyon, Deputy Assistant Secretary for Budget

OLMS Stephen Willertz, Director, Office of Field Operations

OSHA Galen Blanton, Regional Administrator, Boston

OSHA Loren Sweatt, Principal Deputy Assistant Secretary

SOL Kate O'Scannlain, Solicitor of Labor

VETS Ivan Denton, Director, National Programs

WHD Patrice Torres, Associate Director, Administrative Operations

Rotating Membership—

Appointment Expires on 09/30/23

ETA Debra Carr, Deputy Administrator, Office of Job Corps

For Further Information Contact: Mr. Demeatric Gamble, Chief, Division of Executive Resources, Room N2453, U.S. Department of Labor, Frances Perkins Building, 200 Constitution Ave. NW, Washington, DC 20210, telephone: (202) 693-7694.

Signed at Washington, DC, on the 1st day of February 2020.
Bryan Slater,
Assistant Secretary for Administration and Management.

[FR Doc. 2020-02525 Filed 2-7-20; 8:45 am]

BILLING CODE 4510-04-P